DEPARTMENT OF THE INTERIOR

Fish and Wildlife Service

Notice of Intent To Hold a 30-Day Scoping Period To Solicit Public Comments for a National Environmental Policy Act (NEPA) Decision on a Proposed Habitat Conservation Plan for the Lake Erie Water Snake

AGENCY: Fish and Wildlife Service, Interior.

ACTION: Notice of intent to conduct a 30-day scoping period to solicit public comments for a NEPA decision on a proposed Habitat Conservation Plan and Incidental Take Permit for the Lake Erie water snake.

SUMMARY: This notice advises the public that the U.S. Fish and Wildlife Service (Service) intends to gather information relevant to the proposed Habitat Conservation Plan and Incidental Take Permit for the Lake Erie water snake. In addition, the Service is considering options for compliance with NEPA, which is required for completion of the Habitat Conservation Plan (HCP) and its associated Incidental Take Permit (ITP). Two options being considered to comply with NEPA are development of a categorical exclusion or an Environmental Assessment (EA). The Service is seeking substantive comments on several aspects of this proposed project: the appropriate level of NEPA review; identification of issues with the proposed development that should be considered in regard to the Lake Erie water snake; and identification of any other environmental issues that should be considered with regard to the proposed development and permit action. These comments will be considered by the Service in complying with the requirements of NEPA and in the development of an HCP.

A private developer is seeking an ITP for development of eight residential sites on 17 acres located on Long Point, Kelley's Island, Erie County, Ohio, which is located approximately 3 miles northeast of Marblehead, Ohio. Development is proposed to include eight primary residences, associated outbuildings, construction of a new access road, individual septic systems, and associated amenities.

A number of actions are proposed to minimize and mitigate taking and harming Lake Erie water snakes and their habitat. These measures include: seasonal restrictions on development and construction activities; a 125-foot protective setback from the ordinary high water mark of Lake Erie to remain in its current natural state for the protection and recovery of the Lake Erie water snake; abandonment of the west shoreline access road to increase shoreline shelter for the Lake Erie water snake; development of a new Long Point access road away from the Lake Erie shoreline to reduce road-kill mortality of Lake Erie water snakes; preservation of old foundations, concrete slabs, and piles of limestone rocks that presently occur on the Long Point, LLC property; placement of rocks and vegetation on the abandoned access road to increase shoreline shelter for Lake Erie water snakes and to prevent vehicle use; monetary support for Lake Erie water snake studies and monitoring; usage of architectural designs with minimal footprints; construction of an access road and driveways with minimal widths; and usage of signs posting speed restrictions along the Long Point access road. These measures are proposed to minimize and mitigate the effects of potential incidental take of Lake Erie water snakes to the maximum extent practicable, consistent with the otherwise lawful activity of residential construction on the Long Point, LLC property.

This notice is being furnished as provided for by the National Environmental Policy Act (NEPA) Regulations (40 CFR1501.7 and 1508.22). The intent of the notice is to obtain suggestions and additional information from other agencies and the public on the scope of issues to be considered. Comments and participation in this scoping process are solicited.

DATES: Written comments should be received on or before August 27, 2001. All comments received from individuals become part of the official public record. Requests for such comments will be handled in accordance with the Freedom of Information Act and the Council on Environmental Quality's NEPA regulations (40 CFR 1506.6(f)). Our practice is to make comments, including names and home addresses of respondents, available for public review during regular business hours. Individual respondents may request that we withhold their home address from the record, which we will honor to the extent allowable by law. If a respondent wishes us to withhold his/her name and/or address, this must be stated prominently at the beginning of the comment.

Public Involvement: The public is invited to participate in the scoping process. No public meetings are planned for this project but submission of written comments by either mail, facsimile, or electronic mail are encouraged. Comments should be submitted to the appropriate address shown below. Written scoping comments should be received by the closing date stated in the section above.

ADDRESSES: Comments should be addressed to: Ms. Angela Boyer, U.S. Fish and Wildlife Service, Reynoldsburg Field Office, 6950 Americana Parkway, Suite H, Reynoldsburg, OH 43068-4127. Electronic mail comments may also be submitted within the comment period to: lewatersnake@fws.gov or by facsimile to: (614) 469-6919.

FOR FURTHER INFORMATION CONTACT: Ms. Angela Boyer, U.S. Fish and Wildlife Service, Reynoldsburg Field Office, 6950 Americana Parkway, Suite H, Reynoldsburg, OH 43068-4127, telephone: (614) 469-6923 extension 22, facsimile: (614) 469-6919.

SUPPLEMENTARY INFORMATION: The Lake Erie water snake (Nerodia sipedon insularum) was listed on August 30, 1999, by the Service as a threatened species under the Endangered Species Act of 1973, as amended (ESA). The population decline of this snake species is attributed to loss of shoreline habitat and the killing of snakes by people. The Lake Erie water snakes are an important member of Lake Erie's aquatic ecosystem. They live along shorelines of the western basin Lake Erie islands where they feed on small fish and amphibians. The snakes usually grow from 1 to 3.5 feet, in length.

The Service currently has no information regarding whether the approximately 17 acres site contains facilities which are eligible to be listed on the National Register of Historic Places or whether other historical, archaeological, or traditional cultural properties may be present. The National Historic Preservation Act and other laws require that any such properties and resources be identified and considered in project planning. The public is requested to inform the Service of concerns about archaeological sites, buildings and structures, historic events, sacred and traditional areas, and other historic preservation concerns.

Dated: July 2, 2001.
Robert Krska,
Acting Assistant Regional Director, Ecological Services, Region 3, Fort Snelling, MN.

[FR Doc. 01-18600 Filed 7-25-01; 8:45 am]

BILLING CODE 4310-55-P